DEPARTMENT OF DEFENSE

Department of the Navy

[Docket ID USN-2022-HQ-0013]

Submission for OMB Review; Comment Request

AGENCY: Department of the Navy, Department of Defense (DoD).

ACTION: 30-day information collection notice.

SUMMARY: The Department of Defense has submitted to OMB for clearance the following proposal for collection of information under the provisions of the Paperwork Reduction Act.

DATES: Consideration will be given to all comments received by September 6, 2022.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Angela Duncan, 571-372-7574, whs.mc-alex.esd.mbx.dd-dod-information-collections@mail.mil.

SUPPLEMENTARY INFORMATION: Title; Associated Form; And OMB Number: United States Marine Corps Suicide Prevention Stakeholder Survey; OMB Control Number 0703-SPSS.

Type of Request: New collection.

Number of Respondents: 7,215.

Responses per Respondent: 1.

Annual Responses: 7,215.

Average Burden per Response: 15 minutes.

Annual Burden Hours: 1,803.75.

Needs and Uses: Marine and Reserve Affairs, Marine and Family Programs is evaluating its suicide prevention capability. One component of this effort involves gathering information from various stakeholders who contribute directly or indirectly to suicide prevention efforts in the U.S. Marine Corps (USMC). Stakeholders will be asked about priorities in suicide prevention, job duties related to suicide prevention, communication with other stakeholders, and perceived successes and perceived barriers in suicide prevention. The USMC Suicide Prevention Stakeholder Survey will provide information vital for continuous process improvement. Information collected from this effort will be used to support Marines experiencing critical stressors, identify gaps in the suicide prevention system, and identify best practices and collaboration efforts between suicide prevention stakeholders.

Affected Public: Individuals or households.

Frequency: Once.

Respondent's Obligation: Voluntary.

OMB Desk Officer: Ms. Jasmeet Seehra.

You may also submit comments and recommendations, identified by Docket ID number and title, by the following method:

• Federal eRulemaking Portal: http://www.regulations.gov. Follow the instructions for submitting comments.

Instructions: All submissions received must include the agency name, Docket ID number, and title for this Federal Register document. The general policy for comments and other submissions from members of the public is to make these submissions available for public viewing on the internet at http://www.regulations.gov as they are received without change, including any personal identifiers or contact information.

DOD Clearance Officer: Ms. Angela Duncan.

Requests for copies of the information collection proposal should be sent to Ms. Duncan at whs.mc-alex.esd.mbx.dd-dod-information-collections@mail.mil.

Dated: August 1, 2022.
Aaron T. Siegel,
Alternate OSD Federal Register, Liaison Officer, Department of Defense.

[FR Doc. 2022-16760 Filed 8-3-22; 8:45 am]

BILLING CODE 5001-06-P